DEPARTMENT OF ENERGY

Federal Energy Regulatory Commission

Combined Notice of Filings #1

Take notice that the Commission received the following electric rate filings:

Docket Numbers: ER10-2906-012; ER10-2908-012; ER10-2910-012; ER11-4393-007

Applicants: Morgan Stanley Capital Group Inc., MS Solar Solutions Corp., Power Contract Financing II, L.L.C., TAQA Gen X LLC.

Description: Notice of Non-Material Change in Status of the Morgan Stanley Public Utilities.

Filed Date: 12/11/18.

Accession Number: 20181211-5142.

Comments Due: 5 p.m. ET 1/2/19.

Docket Numbers: ER19-302-001.

Applicants: NTE Southeast Electric Company, LLC.

Description: Tariff Amendment: Amendment to 1 to be effective 1/1/2019.

Filed Date: 12/12/18.

Accession Number: 20181212-5251.

Comments Due: 5 p.m. ET 1/2/19.

Docket Numbers: ER19-531-000.

Applicants: El Paso Electric Company.

Description: § 205(d) Rate Filing: Rate Schedule No. 117 Agreement on Interconnection Study 2 Costs to be effective 12/12/2018.

Filed Date: 12/11/18.

Accession Number: 20181211-5115.

Comments Due: 5 p.m. ET 1/2/19.

Docket Numbers: ER19-532-000.

Applicants: Summer Energy Midwest, LLC.

Description: § 205(d) Rate Filing: Summer Energy of Ohio Notice of Succession to be effective 10/31/2018.

Filed Date: 12/12/18.

Accession Number: 20181212-5009.

Comments Due: 5 p.m. ET 1/2/19.

Docket Numbers: ER19-533-000.

Applicants: Louisville Gas and Electric Company.

Description: § 205(d) Rate Filing: Rate Schedule 505 Amd and Restated OMU IA 2018 to be effective 11/13/2018.

Filed Date: 12/11/18.

Accession Number: 20181211-5148.

Comments Due: 5 p.m. ET 1/2/19.

Docket Numbers: ER19-534-000.

Applicants: Prairie Breeze Wind Energy II LLC.

Description: § 205(d) Rate Filing: Revised Market-Based Rate Tariff Filing to be effective 12/13/2018.

Filed Date: 12/12/18.

Accession Number: 20181212-5026.

Comments Due: 5 p.m. ET 1/2/19.

Docket Numbers: ER19-536-000.

Applicants: Buckeye Wind Energy LLC.

Description: § 205(d) Rate Filing: Revised Market-Based Rate Tariff Filing to be effective 12/13/2018.

Filed Date: 12/12/18.

Accession Number: 20181212-5027.

Comments Due: 5 p.m. ET 1/2/19.

Docket Numbers: ER19-537-000.

Applicants: AltaGas San Joaquin Energy Inc.

Description: § 205(d) Rate Filing: Notices of Succession to be effective 12/13/2018.

Filed Date: 12/12/18.

Accession Number: 20181212-5028.

Comments Due: 5 p.m. ET 1/2/19.

Docket Numbers: ER19-538-000.

Applicants: California Independent System Operator Corporation.

Description: § 205(d) Rate Filing: 2018-12-12 Imbalance Conformance Enhancement Amendment to be effective 2/27/2019.

Filed Date: 12/12/18.

Accession Number: 20181212-5132.

Comments Due: 5 p.m. ET 1/2/19.

Docket Numbers: ER19-539-000.

Applicants: California Independent System Operator Corporation.

Description: § 205(d) Rate Filing: 2018-12-12 EIM Agreement between CAISO and Salt River Project to be effective 2/11/2019.

Filed Date: 12/12/18.

Accession Number: 20181212-5136.

Comments Due: 5 p.m. ET 1/2/19.

Docket Numbers: ER19-540-000.

Applicants: Ohio Power Company, PJM Interconnection, L.L.C.

Description: § 205(d) Rate Filing: Ohio Power et al. submits 50th Revised ILDSA, SA No. 1336 btw AEPSC and Buckeye to be effective 12/12/2018.

Filed Date: 12/12/18.

Accession Number: 20181212-5175.

Comments Due: 5 p.m. ET 1/2/19.

Docket Numbers: ER19-541-000.

Applicants: ITC Midwest LLC.

Description: § 205(d) Rate Filing: Filing of JUA with Jo-Carroll Energy to be effective 2/11/2019.

Filed Date: 12/12/18.

Accession Number: 20181212-5202.

Comments Due: 5 p.m. ET 1/2/19.

Docket Numbers: ER19-542-000.

Applicants: PJM Interconnection, L.L.C.

Description: § 205(d) Rate Filing: Original ISA, SA No. 5238; Queue No. AD1-084 to be effective 11/12/2018.

Filed Date: 12/12/18.

Accession Number: 20181212-5219.

Comments Due: 5 p.m. ET 1/2/19.

Docket Numbers: ER19-543-000.

Applicants: Nevada Power Company.

Description: § 205(d) Rate Filing: Service Agreement No. 18-00087 NPC-Sunshine Valley Solar EPC to be effective 12/13/2018.

Filed Date: 12/12/18.

Accession Number: 20181212-5230.

Comments Due: 5 p.m. ET 1/2/19.

Docket Numbers: ER19-544-000.

Applicants: Aragonne Wind LLC.

Description: § 205(d) Rate Filing: Request for Cat. 1 Seller Status in the SW Region to be effective 12/13/2018.

Filed Date: 12/12/18.

Accession Number: 20181212-5247.

Comments Due: 5 p.m. ET 1/2/19.

Take notice that the Commission received the following electric securities filings:

Docket Numbers: ES19-5-000.

Applicants: Cube Yadkin Transmission LLC.

Description: Application under for Authorization Section 204 of the Federal Power Act of Cube Yadkin Transmission LLC.

Filed Date: 12/12/18.

Accession Number: 20181212-5194.

Comments Due: 5 p.m. ET 1/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2018.
Nathaniel J. Davis, Sr.,
Deputy Secretary.

[FR Doc. 2018-27318 Filed 12-17-18; 8:45 am]

BILLING CODE 6717-01-P